DEPARTMENT OF STATE

[Public Notice 3929]

Culturally Significant Object Imported for Exhibition Determinations: “Caspar David Friedrich's Giant Mountain (View of the Small Sturmhaube From Warmbrunn) c. 1810”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the object to be included in the exhibition “Caspar David Friedrich's Giant Mountain (View of the Small Sturmhaube from Warmbrunn) c. 1810,” imported from abroad for temporary exhibition within the United States, is of cultural significance. The object is imported pursuant to a loan agreement with the foreign owner. I also determine that the exhibition or display of the exhibit object at the Russian Ambassador's residence, Washington, DC on or about March 14, 2002, and the Museum of Fine Arts, Houston, TX from on or about March 15, 2002 to on or about September 30, 2002, and at possible additional venues yet to be determined, is in the national interest. Public Notice of these Determinations is ordered to be published in the Federal Register.

FOR FURTHER INFORMATION CONTACT: For further information, contact Carol B. Epstein, Attorney-Adviser, Office of the Legal Adviser, U.S. Department of State, (telephone: 202/619-6981). The address is U.S. Department of State, SA-44, 301 4th Street, SW., Room 700, Washington, DC 20547-0001.

Dated: February 22, 2002.
Patricia S. Harrison,
Assistant Secretary for Educational and Cultural Affairs, Department of State.

[FR Doc. 02-4855 Filed 2-27-02; 8:45 am]

BILLING CODE 4710-08-P